DEPARTMENT OF ENERGY

Federal Energy Regulatory Commission

[Docket No. CP00-471-000]

Wyoming Interstate Company, Ltd.; Notice of Application

October 4, 2000.

Take notice that on September 26, 2000, Wyoming Interstate Company, Ltd. (WIC), P.O. Box 1087, Colorado Springs, Colorado 80944, filed in Docket No. CP00-471-000 an application pursuant to Section 7 of the Natural Gas Act (NGA), and the Commission's Rules and Regulations for a certificate of public convenience and necessity authorizing WIC to construct and operate a loop of its existing Medicine Bow Lateral and install a third compressor unit at its existing Douglas Compressor Station all as more fully set forth in the application which is on file with the Commission and open to public inspection. The filing may be viewed at http://www.ferc.fed.us/online/rims.htm (call 202-208-2222 for assistance).

Specifically, WIC proposes to construct and operate the following facilities:

• An approximately 155 mile, 36-inch diameter pipeline loop of its entire existing Medicine Bow Lateral commencing in Converse County, Wyoming and extending in a southeasterly direction through Converse, Platt and Laramie Counties, Wyoming and terminating at the discharge side of WIC's existing Cheyenne Compressor Station in Weld County, Colorado.

• A 7,170 horsepower compressor unit at WIC's existing Douglas Compressor Station in Converse County, Wyoming.

• Additional facilities to increase the capacity of the meter stations at the northern end of the Medicine Bow Lateral and to increase capacity at the existing check meter station at the southern end in the Cheyenne Compressor Station yard.

WIC states that the proposed facilities will increase the capacity of the Medicine Bow Lateral from 380,000 dth per day to 1,055,000 dth per day. WIC avers that the project is fully supported by firm service agreements for which WIC has requested confidential treatment pursuant 18 CFR 388.112. WIC estimates that the proposed facilities will cost $159,575,900 and proposes to roll-in the costs of the expansion into its existing Medicine Bow Lateral rate. WIC also proposes to roll-in the incremental fuel into its existing Medicine Bow Incremental FL&U Percentage.

Any questions regarding this application should be directed to James R. West, Manager, Certificates, at (719) 520-4679, Wyoming Interstate Company, Ltd., P.O. Box 1087, Colorado Springs, Colorado 80944.

Any person desiring to be heard or to protest with reference to said application should on or before October 25, 2000, file with the Federal Energy Regulatory Commission (Commission), 888 First Street, NE, Washington, DC 20426, a motion to intervene or protest in accordance with the requirements of the Commission's Rules of Practice and procedure (18 CFR 385.211 and 385.214) and the regulations under the Natural Gas Act (NGA) (18 CFR 157.10). All protests filed with the Commission will be considered by it in determining the appropriate action to be taken but will not serve to make the protestants parties to the proceeding. Any person wishing to become a party in any proceeding must file a motion to intervene in accordance with the Commission's rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered, a person, instead, may submit two copies of such comments to the Secretary of the Commission, Commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by Commenters or those requesting intervenor status.

Take further notice that, pursuant to the authority contained in and subject to the jurisdiction conferred upon the Commission by Section 7 and 15 of the NGA and Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for WIC to appear or be represented at the hearing.

Linwood A. Watson, Jr.
Acting Secretary,

[FR Doc. 00-26055 Filed 10-10-00; 8:45 am]

BILLING CODE 6717-01-M